DEPARTMENT OF TRANSPORTATION

Federal Aviation Administration

14 CFR Part 39

[Docket No. 2002-NM-151-AD]

RIN 2120-AA64

Airworthiness Directives; Boeing Model 767-200 and -300 Series Airplanes

AGENCY: Federal Aviation Administration, DOT.

ACTION: Notice of proposed rulemaking (NPRM).

SUMMARY: This document proposes the adoption of a new airworthiness directive (AD) that is applicable to all Boeing Model 767-200 and -300 series airplanes. This proposal would require inspection of the actuators for the off-wing slide compartment door on the right and left sides of the airplane to determine the actuator cartridge serial number, and corrective actions, if necessary. This action is necessary to prevent the actuators for the off-wing slide compartment door from not firing, which could cause the door to open improperly and prevent the deployment of the off-wing escape slide, leading to the loss of an evacuation route. This action is intended to address the identified unsafe condition.

DATES: Comments must be received by March 22, 2004.

ADDRESSES: Submit comments in triplicate to the Federal Aviation Administration (FAA), Transport Airplane Directorate, ANM-114, Attention: Rules Docket No. 2002-NM-151-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-151-AD” in the subject line and need not be submitted in triplicate. Comments sent via the Internet as attached electronic files must be formatted in Microsoft Word 97 or 2000 or ASCII text.

The service information referenced in the proposed rule may be obtained from Boeing Commercial Airplanes, P.O. Box 3707, Seattle, Washington 98124-2207; and Universal Propulsion Company, Inc. (formerly OEA Inc.), P.O. Box KK, Highway 12, Explosive Technology Rd., Fairfield, California 94533-0659. This information may be examined at the FAA, Transport Airplane Directorate, 1601 Lind Avenue, SW., Renton, Washington.

FOR FURTHER INFORMATION CONTACT: Susan Rosanske, Cabin Safety and Environmental Systems Branch, ANM-150S, FAA, Seattle Aircraft Certification Office, 1601 Lind Avenue, SW., Renton, Washington 98055-4056; telephone (425) 917-6448; fax (425) 917-6590.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-151-AD.” The postcard will be date stamped and returned to the commenter.

Availability of NPRMs

Any person may obtain a copy of this NPRM by submitting a request to the FAA, Transport Airplane Directorate, ANM-114, Attention: Rules Docket No. 2002-NM-151-AD, 1601 Lind Avenue, SW., Renton, Washington 98055-4056.

Discussion

The FAA has received a report indicating that an actuator for the off-wing slide compartment door did not fire during an off-wing escape slide test of a Boeing Model 767 series airplane. The actuator for the off-wing slide compartment door did not fire because of a manufacturing defect. This condition, if not corrected, could cause the door to open improperly and prevent the deployment of the off-wing escape slide, leading to the loss of an evacuation route.

Explanation of Relevant Service Information

The FAA has reviewed and approved Boeing Special Attention Service Bulletin 767-25-0299, dated January 18, 2001, which describes procedures for performing an inspection of the actuators for the off-wing slide compartment door to determine the actuator cartridge serial number, and corrective actions, if necessary. The corrective actions include removing the actuators for the off-wing slide compartment door; performing an inspection of the actuator cartridge for the presence of a clearance hole, replacing the actuator cartridge with a new actuator cartridge or a serviceable actuator cartridge from a recharge kit; and installing the actuators of the off-wing slide compartment door. Accomplishment of the actions specified in the Boeing service bulletin is intended to adequately address the identified unsafe condition.

Boeing Special Attention Service Bulletin 767-25-0299, dated January 18, 2001 references OEA Aersospace, Inc. Service Bulletin 5262 (02) SB (NC), dated October 2, 2000, as an additional source of service information for the inspection of the actuator cartridge, and corrective actions, if necessary.

Explanation of Requirements of Proposed Rule

Since an unsafe condition has been identified that is likely to exist or develop on other products of this same type design, the proposed AD would require accomplishment of the actions specified in the Boeing service bulletin described previously, except as discussed below.

Differences Between Proposed Rule and Service Bulletin

Operators should note that, although the Boeing service bulletin recommends accomplishing the actions “at the earliest time when parts and labor are available,” the FAA has determined that “the earliest time when parts and labor are available” would not address the identified unsafe condition in a timely manner. In developing an appropriate compliance time for this AD, the FAA considered not only the manufacturer's recommendation, but the degree of urgency associated with addressing the subject unsafe condition, the average utilization of the affected fleet, and the time necessary to perform the inspection (six hours). In light of all of these factors, the FAA finds a compliance time of within two years after the effective date of this AD for completing the required actions to be warranted, in that it represents an appropriate interval of time allowable for affected airplanes to continue to operate without compromising safety.

Operators should also note that, although the Boeing service bulletin lists the effectivity as Model 767-200 and -300 series airplanes, line numbers 725 through 815 inclusive, the FAA has determined the applicability should be all Model 767-200 and -300 series airplanes. The increased number of affected airplanes is due to configuration control issues with the off-wing slide compartment door actuators. Since we cannot be sure the parts were limited to the airplanes listed in the service bulletin, we need to include all airplanes.

Cost Impact

There are approximately 829 airplanes of the affected design in the worldwide fleet. The FAA estimates that 346 airplanes of U.S. registry would be affected by this proposed AD, that it would take approximately 6 work hours per airplane to accomplish the proposed inspection, and that the average labor rate is $65 per work hour. Based on these figures, the cost impact of the proposed AD on U.S. operators is estimated to be $134,940, or $390 per airplane.

The cost impact figure discussed above is based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Boeing: Docket 2002-NM-151-AD.

Applicability: All Model 767-200 and -300 series airplanes; certificated in any category.

Compliance: Required as indicated, unless accomplished previously.

To prevent the actuators for the off-wing slide compartment door from not firing, which could cause the door to open improperly and prevent the deployment of the off-wing escape slide, leading to the loss of an evacuation route, accomplish the following:

Inspection and Corrective Action

(a) Within two years after the effective date of this AD, do an inspection of the actuators for the off-wing slide compartment door on the right and left sides of the airplane to determine the actuator cartridge serial number, in accordance with the Accomplishment Instructions of Boeing Special Attention Service Bulletin 767-25-0299, dated January 18, 2001.

(b) If any actuator cartridge having serial numbers 5481 through 5741 inclusive is found during the inspection required by paragraph (a) of this AD: Before further flight, perform the actions specified in paragraphs (b)(1) through (b)(3) of this AD in accordance with the Accomplishment Instructions of Boeing Special Attention Service Bulletin 767-25-0299, dated January 18, 2001.

(1) Remove the actuator for the off-wing slide compartment door.

(2) Perform an inspection of the actuator cartridge for the presence of a clearance hole and corrective actions if necessary (includes replacing the actuator cartridge with a new actuator cartridge or a serviceable actuator cartridge from a recharge kit).

(3) Install the actuator for the off-wing slide compartment door.

Note 1: Boeing Special Attention Service Bulletin 767-25-0299, dated January 18, 2001, references OEA Aersospace, Inc. Service Bulletin 5262 (02) SB (NC), dated October 2, 2000, as an additional source of service information for performing the inspection of the actuator cartridge and corrective actions.

Parts Installation

(c) As of the effective date of this AD, no person shall install an actuator for the off-wing escape slide having OEA part number 5262200 cartridge assembly with actuator cartridge serial numbers 5481 through 5741 inclusive that do not have a clearance hole between the two firing pins, on any airplane.

Alternative Methods of Compliance

(d) In accordance with 14 CFR 39.19, the Manager, Seattle Aircraft Certification Office, FAA, is authorized to approve alternative methods of compliance for this AD.

Issued in Renton, Washington, on January 29, 2004.
Kalene C. Yanamura,
Acting Manager, Transport Airplane Directorate, Aircraft Certification Service.

[FR Doc. 04-2478 Filed 2-5-04; 8:45 am]

BILLING CODE 4910-13-P